DEPARTMENT OF THE INTERIOR

Bureau of Land Management

[NV-910-04-0777XX]

Notice of Public Meeting: Sierra Front/Northwestern Great Basin Resource Advisory Council, Northeastern Great Basin Resource Advisory Council, and Mojave-Southern Great Basin Resource Advisory Council

AGENCY: Bureau of Land Management, Interior.

ACTION: Combined Resource Advisory Council meeting.

SUMMARY: In accordance with the Federal Land Policy and Management Act and the Federal Advisory Committee Act of 1972 (FACA), the Department of the Interior, Bureau of Land Management (BLM) Resource Advisory Council meetings will be held as indicated below.

DATES: The three councils will meet on Thursday, October 21 from 8 a.m. to 5 p.m. and Friday, October 22, from 8 a.m. to 3 p.m., in the Grande D Conference Room, Riviera Hotel, 2901 Las Vegas Blvd., Las Vegas, Nevada 89109.

FOR FURTHER INFORMATION CONTACT: Jo Simpson, Chief, Office of Communications, BLM Nevada State Office, 1340 Financial Blvd., Reno, Nevada, telephone (775) 861-6586; or Debra Kolkman at telephone (775) 289-1946.

SUPPLEMENTARY INFORMATION: The 15-member Councils advise the Secretary of the Interior, through the Bureau of Land Management (BLM), on a variety of planning and management issues associated with public land management in Nevada. Agenda topics include a presentation and discussion of accomplishments during 2004 and the outlook for 2005 for the BLM in Nevada; opening remarks and closeout reports of the three Resource Advisory Councils (RACs); breakout meetings of each group category; breakout meetings of the three RACs; setting of schedules for meetings of the individual RACs for the coming year, and other issues members of the Councils may raise. A detailed agenda will be available at http://www.nv.blm.gov after October 12, 2004. All meetings are open to the public. The public may present written comments to the three RAC groups or the individual RACs. The public comment period for the Council meeting will be at 3 p.m. on Thursday, October 21. Individuals who plan to attend and need further information about the meeting or need special assistance such as sign language interpretation or other reasonable accommodations, should contact Debra Kolkman at the BLM Nevada State Office, 1340 Financial Blvd., Reno, Nevada, telephone (775) 289-1946.

Dated: August 30, 2004.
Robert V. Abbey,
State Director, Nevada.

[FR Doc. 04-20202 Filed 9-3-04; 8:45 am]

BILLING CODE 4310-HC-P